DEPARTMENT OF JUSTICE

Antitrust Division

Notice Pursuant to the National Cooperative Research and Production Act of 1993—PKI Forum, Inc.

Notice is hereby given that, on June 27, 2001, pursuant to Section 6(a) of the National Cooperative Research and Production Act of 1993, 15 U.S.C. 4301 et seq. (“the Act”), PKI Forum, Inc. has filed written notifications simultaneously with the Attorney General and the Federal Trade Commission disclosing changes in its membership status. The notifications were filed for the purpose of extending the Act's provisions limiting the recovery of antitrust plaintiffs to actual damages under specified circumstances. Specifically, Aladdin Knowledge Systems Ltd., Tel Aviv, ISRAEL; Arthur Andersen, Houston, TX; Certicom Corp., Mississauga, Ontario, CANADA; EEMA, Inkberrow, Worcestershire, UNITED KINGDOM; Entegrity Solutions, Inc., San Jose, CA; Fannie Mae, Washington, DC; Gemplus International S.A., Redwood City, CA; Enterasys Networks, Acton, MA; KPMG LLP, Boston, MA; Litronic Inc., Irvine, CA; Mitsubishi Electric Corporation, Kamakura, Kanagawa, JAPAN; NEC Corporation, Tokyo, JAPAN; NORTEL Networks Corporation, Kanata, Ontario, CANADA; PricewaterhouseCoopers LLP, McLean, VA; Protegrity, Inc., Stamford, CT; Securify, Inc., Waltham, MA; Spyrus, Inc., San Jose, CA; TC TrustCenter Gmbh, Hamburg, GERMANY; Sonera SmartTrust AB, Stockholm, SWEDEN; nCipher, Inc., Woburn, MA; Korea Information Security Agency, Seoul, REPUBLIC OF KOREA; CardBase Technologies Limited Co., Dublin, IRELAND; 724 Solutions Inc., Toronto, Ontario, CANADA; U.S. Postal Service Headquarters, Washington, DC; MIMOS Berhad, Kuala Lumpur, MALAYSIA; Deutsche Post Sign Trust Gmbh, Bonn, GERMANY; and Giesecke & Devrient, Munich, GERMANY have been added as parties to this venture. Also, De La Rue InterClear Limited, Basingtoke, UNITED KINGDOM; and LockStar, Inc., Lyndhurst, NJ have been dropped as parties to this venture.

No other changes have been made in either the membership or planned activity of the group research project. Membership in this group research project remains open, and PKI Forum, Inc. intends to file additional written notification disclosing all changes in membership.

On April 2, 2001, PKI Forum, Inc. filed its original notification pursuant to Section 6(a) of the Act. The Department of Justice published a notice in the Federal Register pursuant to Section 6(b) of the Act on May 3, 2001 (66 FR 22260).

Constance K. Robinson,
Director of Operations, Antitrust Division.

[FR Doc. 01-18904 Filed 7-27-01; 8:45 am]

BILLING CODE 4410-11-M